OFFICE OF PERSONNEL MANAGEMENT

[Docket ID: OPM-2023-0031]

Submission for Review: 3206-0194, Annuity Supplement Earnings Report, RI 92-22

AGENCY: Office of Personnel Management.

ACTION: 60-Day notice and request for comments.

SUMMARY: The Office of Personnel Management (OPM), Retirement Services, offers the general public and other Federal agencies the opportunity to comment on the review of the following expiring information collection request (ICR) with change: Annuity Supplement Earnings Report, RI 92-22.

DATES: Comments are encouraged and will be accepted until November 6, 2023.

ADDRESSES: You may submit comments, identified by docket number and title, by the following method:

• Federal Rulemaking Portal: https://www.regulations.gov. Follow the instructions for submitting comments.

All submissions received must include the agency name and docket number for this document. The general policy for comments and other submissions from members of the public is to make these submissions available for public viewing at https://www.regulations.gov as they are received without change, including any personal identifiers or contact information.

FOR FURTHER INFORMATION CONTACT: A copy of this ICR with applicable supporting documentation may be obtained by contacting the Retirement Services Publications Team, Office of Personnel Management, 1900 E Street NW, Room 3316-L, Washington, DC 20415, Attention: Cyrus S. Benson, or sent by email to Cyrus.Benson@opm.gov or faxed to (202) 606-0910 or reached via telephone at (202) 936-0401.

SUPPLEMENTARY INFORMATION: Federal Employees' Retirement System (FERS) annuitants who are not retired on disability and are not yet age 62 may be eligible for a supplement to the FERS annuity. The supplement approximates the portion of full career Social Security benefits earned while under FERS and ends at age 62. Like Social Security benefits, the annuity supplement is subject to an earnings limitation. Accordingly, RI 92-22 is used to obtain the annual earned income of certain FERS annuitants to determine each annuitant's eligibility to continue receiving an annuity supplement.

As required by the Paperwork Reduction Act of 1995 (Pub. L. 104-13) as amended (44 U.S.C. chapter 35), OPM is soliciting comments for this collection (OMB No. 3206-0194). OPM is particularly interested in comments that:

1. Evaluate whether the proposed collection of information is necessary for the proper performance of functions of the agency, including whether the information will have practical utility;

2. Evaluate the accuracy of the agency's estimate of the burden of the proposed collection of information, including the validity of the methodology and assumptions used;

3. Enhance the quality, utility, and clarity of the information to be collected; and

4. Minimize the burden of the collection of information on those who are to respond, including through the use of appropriate automated, electronic, mechanical, or other technological collection techniques or other forms of information technology, e.g., permitting electronic submissions of responses.

Analysis

Agency: Office of Personnel Management, Retirement Services.

Title: Annuity Supplement Earnings Report.

OMB Number: 3206-0194.

Frequency: On occasion.

Affected Public: Individuals or Households.

Number of Respondents: 13,000.

Estimated Time per Respondent: 15 minutes.

Total Burden Hours: 3,250.

Office of Personnel Management.
Kayyonne Marston,
Federal Register Liaison.

[FR Doc. 2023-19194 Filed 9-5-23; 8:45 am]

BILLING CODE 6325-38-P